DEPARTMENT OF LABOR

Employment and Training Administration

[TA-W-39,420]

Price Pfister, Injection Molding Department Pacoima, CA; Notice of Termination of Investigation

Pursuant to section 221 of the Trade Act of 1974, an investigation was initiated on June 11, 2001 in response to a worker petition which was filed on behalf of workers at Price Pfister, Injection Molding Department, Pacoima, California.

A negative determination applicable to the petitioning group of workers was issued on June 12, 2001 (TA-W-39,111). No new information was provided in the petition, which would result in a reversal of the Department's previous determination. Consequently, further investigation in this case would serve no purpose, and the investigation has been terminated.

Signed in Washington, D.C. this 25th day of September, 2001.
Linda G. Poole,
Certifying Officer, Division of Trade Adjustment Assistance.

[FR Doc. 01-25474 Filed 10-10-01; 8:45 am]

BILLING CODE 4510-30-M